CONSUMER PRODUCT SAFETY COMMISSION

16 CFR Part 1120

[CPSC Docket No. CPSC-2021-0038]

Substantial Product Hazard List: Window Covering Cords

AGENCY: Consumer Product Safety Commission

ACTION: Final rule.

SUMMARY: To address the risk of strangulation to young children associated with certain window covering cords, the Consumer Product Safety Commission (CPSC) is issuing this final rule to deem that one or more of the following readily observable characteristics of window coverings present a substantial product hazard (SPH) under the Consumer Product Safety Act (CPSA): the presence of hazardous operating cords on stock window coverings, the presence of hazardous inner cords on stock and custom window coverings, or the absence of a manufacturer label on stock and custom window coverings. The rule amends regulations which list products that the Commission has determined present an SPH.

DATES: The rule is effective December 28, 2022. The incorporation by reference of the publication listed in this rule is approved by the Director of the Federal Register as of December 28, 2022.

FOR FURTHER INFORMATION CONTACT: Jennifer Colten, Compliance Officer, Office of Compliance and Field Operations, Consumer Product Safety Commission, 4330 East West Highway; telephone: 301-504-8165; jcolten@cpsc.gov.

SUPPLEMENTARY INFORMATION:

I. Introduction

A. Overview of the Final Rule

The purpose of the final rule is to address the risk of strangulation to children 8 years old and younger associated with hazardous cords on window coverings.¹ On January 7, 2022 CPSC published a proposed rule pursuant to section 15(j) of the CPSA, 15 U.S.C. 2064(j), to amend the substantial product hazard list in 16 CFR part 1120 (part 1120) to deem the presence of hazardous window covering cords on stock and custom window coverings, which have been adequately addressed by the voluntary standard for window coverings, ANSI/WCMA A100.1—2018, American National Standard for Safety of Corded Window Covering Products (ANSI/WCMA-2018), as an SPH, as defined in section 15(a)(2) of the CPSA. 87 FR 891. The Commission received five comments in support of the rule and is now finalizing the rule as proposed.

¹ On November 2, 2022, the Commission voted 4-0 to publish this final rule, and each Commissioner issued a statement in connection with their vote.

The final rule is based on information and analysis contained in (1) CPSC staff's September 29, 2021, Staff Briefing Package: Notice of Proposed Rulemaking for Corded Window Coverings (Staff's NPR Briefing Package),² and (2) CPSC staff's September 28, 2022, Staff Briefing Package: Final Rule for Corded Window Coverings (Staff's Final Rule Briefing Package).³

² Staff's NPR Briefing Package is available at: https://www.cpsc.gov/s3fs-public/NPRs-Add-Window-Covering-Cords-to-Substantial-Product-Hazard-List-Establish-Safety-Standard-for-Operating-Cords-on-Custom-Window-Coverings-updated-10-29-2021.pdf?VersionId=HIM05bK3WDLRZrlNGogQLknhFvhtx3PD.

³ Staff's Final Rule Briefing Package is available at: https://www.cpsc.gov/s3fs-public/Final-Rules-to-1-Add-Window-Covering-Cords-to-the-Substantial-Product-Hazard-List-and-2-Establish-a-Safety-Standard-for-Operating-Cords-on-Custom-Window-Coverings.pdf?VersionId=nDxz9G5hfDy5k.SnXkqgGKLiDsMK4hpe.

As proposed, in the final rule the Commission deems three readily observable characteristics of stock window coverings an SPH:

(1) presence of hazardous operating cords;

(2) presence of hazardous inner cords; and

(3) absence of a required manufacturer label.

Additionally, the Commission deems two readily observable characteristics of custom window coverings an SPH:

(1) presence of hazardous inner cords; and

(2) absence of a required manufacturer label.

The Commission is addressing the presence of hazardous operating cords on custom window coverings under a separate, concurrent rulemaking pursuant to sections 7 and 9 of the CPSA, because the ANSI/WCMA-2018 standard does not adequately address this hazard. See CPSC Docket No. CPSC-2013-0028.

As detailed in this final rule the Commission determines that:

• the following are readily observable characteristics of window coverings: (a) the presence of hazardous operating cords (accessible operating cords longer than 8 inches in any use position) on stock window coverings; (b) the presence of hazardous inner cords (accessible inner cords that create a loop large enough to insert a child's head) on stock and custom window coverings; and (c) the absence of a required manufacturer label on stock and custom window coverings;

• the identified readily observable characteristics are adequately addressed by a voluntary standard, sections 4.3.1, 4.5, 5.3, 6.3, 6.7, and Appendices C and D of ANSI/WCMA-2018;

• window coverings that conform to sections 4.3.1, 4.5, 5.3, 6.3, 6.7, and Appendices C and D of ANSI/WCMA-2018 regarding the identified characteristics have been effective in reducing the risk of injury from strangulation associated with operating cords on stock window coverings, and inner cords on stock and custom window coverings. Additionally, the required manufacturer label effectively distinguishes between stock and custom window coverings, and expedites timely and effective recalls, by requiring identification of the manufacturer name and manufacture date on the product; and

• stock and custom window coverings manufactured or imported for sale in the United States substantially comply with the specified characteristics in sections 4.3.1, 4.5, 5.3, 6.3, 6.7, and Appendices C and D of ANSI/WCMA-2018.

B. Background and Statutory Authority

Section 15(j) of the CPSA authorizes the Commission to specify, by rule, for any consumer product or class of consumer products, characteristics whose existence or absence are deemed a substantial product hazard under section 15(a)(2) of the CPSA. 15 U.S.C. 2064(j). Section 15(a)(2) of the CPSA defines a “substantial product hazard,” in relevant part, as a product defect which (because of the pattern of defect, the number of defective products distributed in commerce, the severity of the risk, or otherwise) creates a substantial risk of injury to the public. For the Commission to issue a rule under section 15(j) of the CPSA, the characteristics involved must be “readily observable” and must have been addressed by a voluntary standard. Moreover, the voluntary standard must be effective in reducing the risk of injury associated with the consumer products; and there must be substantial compliance with the voluntary standard. Id.

As explained in more detail in section II.A of this preamble, the “readily observable” characteristics of window covering cords include visual observation for the presence of operating and inner cords, and a manufacturer label; and when cords are present, simple manipulations and observation of the window covering to assess cord accessibility by children, and to measure the length of accessible cords to determine whether they present a strangulation hazard.

C. Product Description

Window coverings include shades, blinds, curtains, and draperies, among other products. Both blinds and shades may have inner cords that distribute forces to cause a motion, such as raising, lowering, or rotating the window covering to achieve a consumer's desired level of light control. Manufacturers use inner cords on window coverings to open and close blinds and shades, using a variety of mechanisms, including traditional operating cords, motors, or direct-lift of the bottom rail of the product, to manipulate inner cords. Curtains and draperies do not contain inner cords, but consumers can operate curtains and drapes using a continuous loop operating cord or a wand.

A cord or loop used by consumers to manipulate a window covering is called an “operating cord” and may be in the form of a single cord, multiple cords, or continuous loops. “Cordless” window coverings are products designed to function without an operating cord, but they may contain inner cords. Figures 1 through 6 explain window covering terminology and show examples of different types of window coverings.

Figure 1 shows a horizontal blind containing inner cords, operating cords, and tilt cords. Figure 2 shows a roll-up shade containing lifting loops and operating cords. Figure 3 shows a cellular shade with inner cords between two layers of fabric and operating cords. Figure 4 shows a vertical blind with a looped operating cord to traverse the blind and a looped bead chain to tilt the vanes. Figure 5 shows a Roman shade with inner cords that run on the back side of the shade and operating cords. Figure 6 is a horizontal blind that is marketed as “cordless” because it has no operating cords, but it still contains inner cords.

This final rule relies on the definitions of window coverings and their features as set forth in the ANSI/WCMA-2018 standard, which requires “stock” and “custom” window coverings to meet different sets of requirements. The final rule defines a “stock window covering” using the definition of “Stock Blinds, Shades, and Shadings” in section 3, definition 5.02 of ANSI/WCMA-2018, describing them as a product that is completely or substantially fabricated prior to being distributed in commerce and as a specific stock-keeping unit (SKU). Even when the seller, manufacturer, or distributor modifies a pre-assembled product, by adjusting to size, attaching the top rail or bottom rail, or tying cords to secure the bottom rail, the product is still considered “stock” as defined in the voluntary standard. Moreover, under the voluntary standard, online sales of a window covering, or the size of the order, such as multifamily housing orders, do not make the product a non-stock product. ANSI/WCMA-2018 provides these examples to clarify that, as long as the product is “substantially fabricated” prior to distribution in commerce, subsequent changes to the product do not change its categorization from “stock” to “custom.” The final rule defines a “custom window covering” the same as the definition of “Custom Blinds, Shades, and Shadings” in section 3, definition 5.01 of the ANSI/WCMA-2018 standard, which is any window covering that is not classified as a stock window covering.

D. Hazards Associated With Window Covering Cords

Window coverings can pose strangulation hazards to children when they have cords that are accessible and long enough to wrap around a child's neck. Figures 7, 8, and 9, below, depict the strangulation hazard for different window covering cord types.

As reviewed in the NPR, children can strangle from mechanical compression of the neck when they place a window covering cord around their neck. 87 FR at 894-96. Strangulation can lead to serious injuries with permanent debilitating outcomes or death. If sustained lateral pressure occurs at a level resulting in vascular occlusion, strangulation can occur when a child's head or neck becomes entangled in any position, even in situations where the body is fully or partially supported.

Strangulation is a form of asphyxia that can be partial (hypoxia), when there is an inadequate oxygen supply to the lungs, or total, when there is complete impairment of oxygen transport to tissues. A reduction in the delivery of oxygen to tissues can result in permanent, irreversible damage. Experimental studies show that only 2 kg (4.4 lbs.) of pressure on the neck may occlude the jugular vein (Brouardel, 1897); and 3-5 kg (7-11 lbs.) may occlude the common carotid arteries (Brouardel, 1897 and Polson, 1973). Minimal compression of any of these vessels can lead to unconsciousness within 15 seconds and death in 2 to 3 minutes (Digeronimo and Mayes, 1994; Hoff, 1978; lserson, 1984; Polson, 1973).

The vagus nerve is also located in the neck near the jugular vein and carotid artery. The vagus nerve is responsible for maintaining a constant heart rate. Compression of the vagus nerve can result in cardiac arrest due to mechanical stimulation of the carotid sinus-vagal reflex. In addition, the functioning of the carotid sinuses may be affected by compression of the blood vessels. Stimulation of the sinuses can result in a decrease in heart rate, myocardial contractility, cardiac output, and systemic arterial pressure in the absence of airway blockage.

Strangulation proceeding along one or more of these pathways can progress rapidly to anoxia, associated cardiac arrest, and death. As seen in the CPSC data (Wanna-Nakamura, 2014), and in the published literature, neurological damage may range from amnesia to a long-term vegetative state. Continued deterioration of the nervous system can lead to death (Howell and Gully, 1996; Medalia et al., 1991).

Because a loop acts as a noose when a child's neck is inserted, and death can occur within 2-3 minutes of a child losing footing, CPSC concludes that head insertion into a preexisting loop poses a higher risk of injury than when a cord that does not contain a pre-existing loop is wrapped around a child's neck; although both scenarios have been demonstrated to be hazardous and have led to fatal outcomes, according to CPSC data.

Based on the data, the Commission also concludes that reliance on parental supervision and warning labels are inadequate to address the risk of injury associated with window covering cords. A user research study found that caregivers lacked awareness regarding the potential for window covering cord entanglement, lacked awareness of the speed and mechanism of the strangulation injury; stated difficulty using and installing safety devices for window coverings, among the primary reasons for not using them; and caregivers were unable to recognize the purpose of the safety devices provided with window coverings (Levi et al., 2016).⁴ According to Godfrey et al. (1983), consumers are less likely to look for and read safety information about the products that they frequently use and are familiar with. Consumers are very likely to be familiar with window coverings because they almost certainly have window coverings in their homes and probably use them daily. Therefore, even well-designed warning labels will have limited effectiveness in communicating the hazard on this type of product.

⁴ https://cpsc.gov/s3fs-public/Window%20Coverings%20Safety%20Devices%20Contractor%20Reports.pdf.

Based on the foregoing, the Commission finds that warning labels are unlikely to effectively reduce the strangulation risk from hazardous cords on window coverings, because consumers are not likely to read and follow warning labels on window covering products, and strangulation deaths among children occur quickly and silently, such that parental supervision is insufficient to address the incidents. Indeed, staff observed that most of the incident window covering units had the permanent warning label required by the ANSI/WCMA standard, applicable at the time of manufacture, affixed to the product. Even well-designed warning labels will have limited effectiveness in communicating the hazard on this type of product, because consumers are less likely to heed warnings for familiar products that they commonly interact with without incident.

In contrast, stock window covering requirements in the ANSI/WCMA standard adequately address the strangulation hazard, by not allowing hazardous cords on the product, by design, and do not rely on consumer action to address the risk. Accordingly, the Commission concludes that the risk of injury associated with window coverings must be addressed through performance requirements for window covering cords.

As discussed in section II of this preamble, ANSI/WCMA-2018 contains performance requirements that, when products conform, adequately and effectively address the risk of strangulation associated with operating cords on stock products, and inner cords on both stock and custom products.

E. Risk of Injury

The Commission's 2015 advance notice of proposed rulemaking (ANPR) on Window Coverings presented incident data covering the period from 1996 through 2012. 80 FR 2327, 2332 (Jan. 16, 2015). Since then, WCMA published the revised voluntary standard for window coverings, ANSI/WCMA-2018. For products that comply, the standard has removed from the market hazardous operating/pull cords and inner cords for stock window coverings, and removed hazardous inner cords for custom window coverings.

To study the effectiveness and any lack of compliance with the voluntary standard associated with window covering cords, for the NPR, CPSC staff reviewed the data related to these products from 2009 through 2020.⁵ Since extracting data for the NPR, CPSC received 15 additional incidents. Tab A of Staff's Final Rule Briefing Package details this new incident data. For the final rule, we describe incidents received from 2009 through 2021. The following analysis distinguishes between stock and custom window coverings, whenever feasible.

⁵ CPSC's incident search focused on fatal and near-miss strangulations suffered by young children due to window covering cords. Whenever feasible, staff selected the time frame to be 2009 through 2021. CPSC staff searched three databases for identification of window covering cord incidents: the Consumer Product Safety Risk Management System (CPSRMS), the National Electronic Injury Surveillance System (NEISS), and the Multiple Cause of Deaths data file (further information can be found at https://wonder.cdc.gov/mcd-icd10.html). The first two sources are CPSC-maintained databases. The Multiple Cause of Deaths data file is available from the National Center for Health Statistics (NCHS).

1. Incident Data From CPSC Databases

Based on newspaper clippings, consumer complaints, death certificates purchased from states, medical examiners' reports, reports from hospital emergency department-treated injuries, and in-depth investigation reports, CPSC staff found a total of 209 reported fatal and near-miss strangulations on window covering cords that occurred among children 8 years old and younger from January 2009 through December 2021. These 209 incidents do not necessarily include all window covering cord-related strangulation incidents that occurred during that period. However, these 209 incidents do provide a minimum number for such incidents during that time frame.

Table 1a provides the breakdown of the incidents by year. Totals include new incidents received after the NPR data analysis and are noted in parentheticals below. Because reporting is ongoing and the number of incidents may grow, and because these reports are anecdotal and reporting is incomplete, CPSC strongly discourages drawing any inferences based on the year-to-year increases or decreases shown in the reported data.

Table 1a—Reported Fatal and Near-Miss Strangulation Incidents Involving Window Covering Cords Among Children Eight Years and Younger 2009-2021
Incident year | Number of reported incidents: Total | Number of reported incidents: Fatal strangulations | Number of reported incidents: Near-miss strangulations
2009 | 48 | 14 | 34
2010 | 31 | 11 | 20
2011 | 10 | 6 | 4
2012 | 17 | 8 | 9
2013 | 9 | 2 | 7
2014 | 17 | 12 | 5
2015 | 9 | 7 | 2
2016 | 17 | 13 | 4
2017 | 10 (1) | 5 | 5 (1)
2018 | 8 | 4 | 4
2019 | 11 | 4 | 7
2020 * | 13 (5) | 8 (5) | 5
2021 * | 9 (9) | 6 (6) | 3 (3)
Total | 209 (15) | 100 (11) | 109 (4)
Source: CPSC epidemiological databases CPSRMS and NEISS. Data in () indicate the number of new incidents received since the NPR data analysis.
Note: * indicates data collection is ongoing.

Among the 15 newly reported incidents, staff identified 11 fatalities (73 percent) and 4 non-hospitalized injuries (27 percent). The non-hospitalized injuries resulted in lacerations and abrasions.

Table 1b expands on Table 1a to display the distribution of the annual incidents by severity of incidents and type of window coverings involved. CPSC staff identified 50 of 209 incident window coverings (24 percent) to be stock products, and 36 of the 209 (17 percent) window coverings as custom products. CPSC staff could not identify the window covering type in the remaining 123 of the 209 (59 percent) incidents; 65 of the 123 (53 percent) incidents involving an uncategorized window covering resulted in a fatality.

Table 1b—Reported Fatal and Near-Miss Strangulation Incidents Involving Stock/Custom/Unknown Types of Window Covering Cords Among Children Eight Years and Younger 2009-2021
Incident year | Reported incidents by window covering type: Stock (fatal/nonfatal) | Reported incidents by window covering type: Custom (fatal/nonfatal) | Reported incidents by window covering type: Unknown (fatal/nonfatal) | Reported incidents by window covering type: All
2009 | 20 (4/16) | 7 (⅖) | 21 (8/13) | 48
2010 | 10 (3/7) | 7 (⅖) | 14 (6/8) | 31
2011 | 2 (1/1) | 4 (3/1) | 4 (2/2) | 10
2012 | 1 (1/0) | 5 (¼) | 11 (6/5) | 17
2013 | 2 (1/1) | 3 (½) | 4 (0/4) | 9
2014 | 3 (2/1) | 2 (1/1) | 12 (9/3) | 17
2015 | 4 (4/0) | 1 (1/0) | 4 (2/2) | 9
2016 | 5 (3/2) | 4 (3/1) | 8 (7/1) | 17
2017 | 2 (1/1) | 1 (0/1) | 7 (4/3) | 10
2018 |  | 1 (0/1) | 7 (4/3) | 8
2019 | 1(0/1) |  | 10 (4/6) | 11
2020 * |  | 1 (1/0) | 12 (7/5) | 13
2021 * |  |  | 9 (6/3) | 9
Total | 50 (20/30) | 36 (15/21) | 123 (65/58) | 209
Source: CPSC epidemiological databases CPSRMS and NEISS.
Note: * indicates data collection is ongoing.

One hundred of the 209 incidents (48 percent) reported a fatality. Among the nonfatal incidents, 16 involved hospitalizations (8 percent). The long-term outcomes of these 16 injuries varied from a scar around the neck, to quadriplegia, to permanent brain damage. One additional child was treated and transferred to another hospital; the final outcome of this patient is unknown. In addition, 79 incidents (38 percent) involved less-severe injuries, some requiring medical treatment, but not hospitalization. In the remaining 14 incidents (7 percent), a child became entangled in a window covering cord, but was able to disentangle from the cord and escape injury. For the NPR, among the incidents with gender information available, 66 percent of the children were males, and 34 percent were females. One incident did not report the child's gender. For the 15 new incidents staff found a similar trend regarding gender; 62 percent of the victims were male and 38 percent were females.

Table 1c provides a breakdown of the incidents by window covering type. Among the 11 newly reported deaths since the NPR data analysis, staff definitively identified the cord type in 6 deaths. Three deaths (27 percent) involved a pull cord, two deaths (18 percent) involved a continuous loop, and one death (9 percent) involved inner cord(s); staff had insufficient information to determine the cord type involved for the remaining five fatal incidents.

Table 1c—Distribution of Reported Incidents by Types of Window Coverings and Associated Cords 2009-2021
[Numbers in parentheses indicate new reports received since NPR]
Window covering type | Cord type: Pull cord | Cord type: Continuous loop | Cord type: Inner cord | Cord type: Lifting loop | Cord type: Tilt cord | Cord type: Unknown | Cord type: Total
Horizontal | 68 (3) | 2 | 4 (1) | 0 | 5 | 10 | 89 (4)
Vertical | 0 | 12 (1) | 0 | 0 | 0 | 0 | 12 (1)
Drapery | 0 | 4 (1) | 0 | 0 | 0 | 0 | 4 (1)
Roman | 2 | 2 | 19 | 0 | 0 | 1 | 24
Other * | 2 | 5 | 0 | 0 | 0 | 0 | 7
Roll-Up | 1 | 0 | 0 | 4 | 0 | 1 | 6
Roller | 0 | 9 | 0 | 0 | 0 | 0 | 9
Unknown | 1 | 1 | 0 | 0 | 0 | 56 (9) | 58 (9)
Total | 74 (3) | 35 (2) | 23 (1) | 4 | 5 | 68 (9) | 209 (15)
Source: CPSC epidemiological databases CPSRMS and NEISS.
Other *: This category includes cellular and pleated shades.
Subtotal †: This row shows the incidents that are relevant to the Section 7&9 rule.

2. Incident Data From National Estimates

(a) Estimates of Window Covering Cord-Related Strangulation Deaths Using National Center for Health Statistics Data

The National Center for Health Statistics (NCHS) compiles all death certificates filed in the United States into multiple-cause mortality data files. The mortality data files contain demographic information on the deceased, as well as codes to classify the underlying cause of death, and up to 20 contributing conditions. The NCHS compiles the data in accordance with the World Health Organization (WHO) instructions, which request member nations to classify causes of death by the current Manual of the International Statistical Classification of Diseases, Injuries, and Causes of Death. Death classifications use the tenth revision of the International Classification of Diseases (ICD), implemented in 1999. For the NPR, 2019 was the latest available year for NCHS data; since then, data for 2020 have become available.

Using the ICD10 code value of W76 (Other accidental hanging and strangulation), the code most likely to capture strangulation fatalities among children under 5 (based on empirical evidence from death certificates maintained in CPSC databases), CPSC staff derived fatality estimates for 2009 through 2020, presented in Figure 10 below. An unknown proportion of strangulation deaths is likely coded under ICD10=W75 (Accidental suffocation and strangulation in bed) as well as ICD10=W83 (Other specified threats to breathing), which staff cannot separate out from the non-strangulation deaths because of the unavailability of any narrative description in these data. Hence, CPSC's estimates of strangulation deaths are minimums.

A 2002 CPSC report by Marcy et al. ⁶ concluded that 35 percent of all strangulation fatalities among children less than 5 years old were associated with window covering cords. Assuming that the same proportion applied for the entire 12-year period 2009-2020, Figure 10 below presents the national estimates for all strangulation fatalities as well as strangulations involving window covering cords among children under 5.

⁶ N. Marcy, G. Rutherford. “Strangulations Involving Children Under 5 Years Old.” U.S. Consumer Product Safety Commission, December 2002.

Based on the 2002 study, staff estimates the annual average number of deaths at 8.1 (or 9, if rounded up to the nearest integer).⁷ We note that this estimate is consistent with CPSC's actual incident data over a 12-year period. For example, at the time of this final rule analysis, the incidents over the 12-year period 2009-2020 report an average of 7.8 (or 8, if rounded up to the nearest integer) annual deaths involving window covering cords among children under 8.

⁷ We received a comment critical of CPSC's use of this 2002 study. At this point in time, we are unaware of other data sources that would provide information regarding a more current national trend in window covering cord-related strangulations and the commenter did not provide an alternate data source.

F. Applicable Voluntary Standard—ANSI/WCMA-2018

WCMA updated the 2018 version the standard in May 2018, to include missing balloted revisions. The standard went into effect on December 15, 2018. Since CPSC staff submitted the NPR Staff Briefing Package in October 2021, WCMA held multiple meetings with the intent of revising the ANSI/WCMA voluntary standard, balloting a revised version on July 15, 2022.⁸ The balloted standard is not in effect and does not modify the provisions in the 2018 standard relevant to this rulemaking. Accordingly, the final rule to amend part 1120 is based on ANSI/WCMA-2018.

⁸ CPSC staff participated in all meetings, and meeting logs have been placed on the rulemaking docket for custom window coverings (Docket No. CPSC-2013-0028).

The 2018 voluntary standard segments the window covering market between “stock” and “custom” window coverings, as defined in section 3 of the standard, definitions 5.02 and 5.01. Per section 4.3.1 of the standard, stock window coverings are required to have:

(1) no operating cords (4.3.1.1),

(2) inaccessible operating cords (4.3.1.3), or

(3) short operating cords (equal to or less than 8 inches) (4.3.1.2).

As reviewed in section II of this preamble, the Commission finds that the requirements for operating cords on stock window coverings in ANSI/WCMA-2018 adequately address the risk of strangulation to children, by removing operating cords, ensuring that they are inaccessible to children, or by making them too short to wrap around a child's neck. Staff's review of the incident data found that if stock window coverings had complied with the requirements in sections 4.3.1 of ANSI/WCMA-2018 at the time of the incident, all operating cord incidents would have been prevented. See Tabs G and I of Staff's NPR Briefing Package; Briefing Memorandum of Staff's Final Rule Briefing Package (at page 36). However, as shown in Table 2, ANSI/WCMA-2018 does not adequately address the risk of injury associated with custom window coverings, because custom products can still be sold to consumers with hazardous operating cords longer than 8 inches, if manufacturers give consumers the option to custom order the products (sections 4.3.2.4 through 4.3.2.7 of ANSI/WCMA-2018).⁹ A hazardous operating cord is one that a child can access, and that is long enough for a child to either wrap around their neck (longer than 8 inches), or to insert their head into a pre-formed loop.

⁹ Although custom window coverings manufacturers can choose to meet the operating cord requirements for stock window coverings (sections 4.3.2.1 through 4.3.2.3), the standard does not require them to do so. Instead, the standard allows firms to continue manufacturing and selling custom window coverings that contain hazardous operating cords (sections 4.3.2.4 through 4.3.2.7). Because the ANSI/WCMA-2018 standard does not adequately address the risk of injury from operating cords on custom products, this final rule does not include them in the scope of the rule under section 15(j) of the CPSA. The Commission is addressing operating cords on custom window coverings in a separate rulemaking under sections 7 and 9 of the CPSA; CPSC Docket No. CPSC-2013-0028.

The Commission also finds that section 4.5 of ANSI/WCMA adequately addresses the strangulation risk associated with inner cords on both stock and custom window coverings. ANSI/WCMA-2018 requires that if inner cords are present on the product, the inner cords must be (1) inaccessible, or (2) if cords are accessible, the loop created when pulling the cord (with a maximum force of 5 pounds) cannot allow a head probe to be inserted using a 10-pound force. Section II of this preamble provides an analysis of the inner cord strangulation hazard on stock and custom window coverings. Section 4.5 of the ANSI/WCMA-2018 standard adequately addresses the risk of injury associated with inner cords on stock and custom window coverings because, similar to operating cords on stock products, inner cords must be not present, or must be inaccessible, or, if inner cords are accessible, the cords must be too short to create a loop large enough for a child to insert his or her head. Staff's review of the incident data found that if stock and custom window coverings had been in compliance with section 4.5 of ANSI/WCMA-2018, all inner cord incidents would have been prevented on a window covering that is unbroken and intact. Id.

Table 2 explains the requirements in in ANSI/WCMA-2018 for operating cords, inner cords, and the manufacturer label, on stock and custom window coverings. In the final rule, the Commission deems failure to follow the provisions in requirements 1 through 5 an SPH, while the Commission addresses the inadequate provisions in requirements 6 through 8 in the final rule for operating cords on custom window coverings under CPSC Docket No. CPSC-2013-0028.

Table 2—Requirements for Stock and Custom Products in ANSI/WCMA-2018
Performance requirements in ANSI/WCMA A100.1-2018 | Assessment of the performance requirement | Stock products | Custom products
1. No operating cords OR | Adequate | Required to have one or more of these options | Allowed/Not Required.
2. Short cord with a length equal to or less than 8 inches in any state (free or under tension) OR
3. Inaccessible operating cords.
4. Inner cords that meet Appendix C and D | Adequate | Required | Required.
5. Manufacturer Label that meets section 5.3 | Adequate | Required | Required.
6. Single Retractable Cord Lift System (no limit on length of exposed cord when operating) | Inadequate | Prohibited. | Allowed/ Not Prohibited.
7. Continuous Loop Operating System.
8. Accessible Operating Cords longer than 8 inches.

G. Commission Efforts To Address Hazardous Window Covering Cords

1. Petition and Rulemaking

On October 8, 2014, the Commission granted a petition to initiate a rulemaking to develop a mandatory safety standard for window coverings.¹⁰ The petition asked CPSC to prohibit window covering cords when a feasible cordless alternative exists. When a feasible cordless alternative does not exist, the petition requested that all window covering cords be made inaccessible by using passive guarding devices. The Commission granted the petition and directed staff to prepare an ANPR to seek information and comment on regulatory options for a mandatory rule to address the risk of strangulation to young children on window covering cords.

¹⁰ The petition, CP 13-2, was submitted by Parents for Window Blind Safety, Consumer Federation of America, Consumers Union, Kids In Danger, Public Citizen, U.S. PIRG, Independent Safety Consulting, Safety Behavior Analysis, Inc., and Onder, Shelton, O'Leary & Peterson, LLC. Staff's October 1, 2014 Petition Briefing Package, and a copy of the petition at Tab A, is available on CPSC's website at: https://cpsc-d8-media-prod.s3.amazonaws.com/s3fs-public/pdfs/foia_PetitionRequestingMandatoryStandardforCordedWindowCoverings.pdf.

On January 9, 2015, the Commission voted to approve publication in the Federal Register of the ANPR for corded window coverings, with changes. The Commission published the ANPR for corded window covering products on January 16, 2015 (80 FR 2327). The ANPR initiated a rulemaking proceeding under the CPSA. CPSC invited comments concerning the risk of injury associated with corded window coverings, the regulatory alternatives discussed in the notice, the costs to achieve each regulatory alternative, the effect of each alternative on the safety, cost, utility, and availability of window coverings, and other possible ways to address the risk of strangulation posed to young children by window covering cords. CPSC also invited interested persons to submit an existing standard or a statement of intent to modify or develop a voluntary standard to address the risk of injury. The ANPR was based on the 2014 version of the ANSI/WCMA standard.

As described in section II.F of this preamble, the voluntary standard, ANSI/WCMA-2018, adequately addresses the risk of injury from operating and inner cords on stock window coverings, and the risk of inner cord strangulation on custom window coverings. Accordingly, the Commission is issuing two final rules: (1) this final rule under section 15(j) of the CPSA, to deem as SPHs, stock window coverings that do not comply with one or more of three readily observable characteristics, and custom window coverings that do not comply with one or more of two readily observable characteristics; and (2) in a separate rulemaking under sections 7 and 9 of the CPSA, a final rule that requires that custom window coverings manufactured for sale in the United States not contain hazardous operating cords, by complying with the same operating cord requirements as stock products in section 4.3.1 of ANSI/WCMA-2018, or by making an accessible cord non-hazardous, as described in the final rule.¹¹

¹¹ The custom window covering final rule provides several methods for window covering manufacturers to produce safe window covering options: cordless, short cords 8 inches or less, inaccessible cords (cord shrouds or retractable cords with a 12-inch stroke length), and continuous loops contained within a cord or bead restraining device that meets the requirements of the final rule.

2. Window Covering Recalls

As reported in the NPR, during the period January 1, 2009 through December 31, 2020, CPSC conducted 42 consumer-level recalls, including two recall reannouncements. 87 FR at 901. Tab C of Staff's NPR Briefing Package provides the details of these 42 recalls, where strangulation was the primary hazard. Manufacturers recalled more than 28 million units,¹² including: Roman shades and blinds, roll-up blinds, roller shades, cellular shades, horizontal blinds, and vertical blinds. The recalled products also included stock products, which can be purchased by consumers off-the-shelf, and custom products, which are made-to-order window coverings based on a consumer's specifications, such as material, size, and color. Recalled units did not comply with the current voluntary standard, ANSI/WCMA-2018. CPSC has not conducted any window covering recalls since December 31, 2020.

¹² This estimate does not include the recalled units of Recall No. 10-073. This was an industry-wide recall conducted by members of the Window Covering Safety Council (WCSC). The recall announcement did not provide an exact number of recalled products.

H. Comments on the NPR

CPSC received three comments on the section 15(j) rule during the comment period, and two comments before the comment period began. All comments generally supported the 15(j) rule and have been placed on the docket for this rule. Commenters include WCMA (two comments),¹³ Consumer Federation of America, Consumer Reports, and Parents for Window Blind Safety. Based on staff's assessment of the ANSI/WCMA-2018 standard and all comments in support of the rule, the Commission finalizes this rule as proposed.

¹³ WCMA also submitted its comments on the proposed rule for operating cords on custom window coverings (Docket CPSC-2013-0028) on the docket for this final rule under section 15(j) of the CPSA. Those comments are not generally relevant to the determinations required for a section 15(j) final rule (readily observable product characteristics are adequately addressed in a voluntary standard, and products substantially comply with the voluntary standard), and so the Commission addresses WCMA's comments in the final rule for custom window coverings.

II. Commission Determination of a Substantial Product Hazard

Sections 4.3.1, 4.5, 5.3, 6.3, 6.7, and Appendices C and D of ANSI/WCMA-2018 set forth the performance requirements for the identified readily observable characteristics of stock and custom window coverings specified in the final rule. Table 3 summarizes these requirements. The final rule deems nonconformance to one or more of the identified readily observable characteristics of stock and custom window coverings in ANSI/WCMA-2018 to be an SPH under section 15(a)(2) of the CPSA.

Table 3—Readily Observable Characteristics in ANSI/WCMA-2018 for Stock and Custom Window Coverings
Stock window coverings section of the standard | Readily observable characteristics | Criterion
A. Operating cord
4.3.1.1 Cordless Operating System: “The product shall have no operating cords” | Presence of the operating cord | (a) Not present or
4.3.1.2 Short Static or Access Cords: “The product shall have a Short Cord” | If present, measure the length in any position of the window covering | (b) 8 inches or shorter or
4.3.1.3 Inaccessible Operating Cords: “The operating cords shall be inaccessible as determined per the test requirements in Appendix C: Test Procedure for Accessible Cords” | If present and longer than 8 inches, observe whether accessible | (c) Inaccessible using cord accessibility probe.
B. Inner cord
4.5 Inner Cords: “All products with inner cords must meet the requirements in Appendix C and Appendix D.” Appendix C. Test Procedure for Accessible Cords | If present, determine whether accessible | (a) Inaccessible using cord accessibility probe or
Appendix D. Hazardous Loop Test Procedure | If present, determine whether a child's head can penetrate the opening | (b) Pull inner cord and measure to determine whether the opening is less than 17 inches. For 15(j) purposes, this is comparable to inserting a head probe with a force of 10 pounds.
C. Manufacturer label
5.3 Manufacturer Label: There shall be a permanent label(s) or marking on all finished window covering products | Presence of a permanent label or marking within or on the headrail or on the roller tube | Observe whether the label is present and contains the following: (a) The name, city, and state of the manufacturer/importer/fabricator. (b) Month and year of manufacture. (c) Designation of window covering as “Custom” or “Stock.”

A. Defined Characteristics Are Readily Observable

1. Operating Cords on Stock Window Coverings

Section 4.3.1 of ANSI/WCMA-2018 requires the operating cords of stock window coverings to be: (1) not present (cordless) (section 4.3.1.1); (2) inaccessible (section 4.3.1.3); or (3) eight inches long or shorter in any position of the stock window covering (section 4.3.1.2). The Commission determines that these characteristics of operating cords on stock window coverings are “readily observable” because, as explained in the NPR, they require visual observation and measurement to assess conformance with sections 4.3.1.1 through 4.3.1.4 of ANSI/WCMA-2018. 87 FR at 902-04. Additionally, the Commission deems the presence of an accessible operating cord longer than 8 inches in any position an SPH, because a child can wrap a cord or looped cord longer than 8 inches around his or her neck, and the child could strangle on the long cord.

2. Inner Cords on Stock and Custom Window Coverings

If a stock window covering conforms to the readily observable operating cord requirements in section 4.3.1 of ANSI/WCMA-2018, a CPSC investigator would then observe whether the window covering has hazardous inner cords, as set forth in section 4.5, 6.3, 6.7, and Appendices C and D, of ANSI/WCMA-2018. Investigators would also assess whether a custom window product contains a hazardous inner cord. ANSI/WCMA-18 requires that inner cords on stock and custom window coverings be: (1) not present (cordless); (2) inaccessible; or (3) short enough not to create a loop large enough for a child to insert their head. The Commission determines that these characteristics of inner cords on stock and custom window coverings are “readily observable” because, as detailed in the NPR, they require visual observation and direct measurements of the product to assess conformance with sections 4.5, 6.3, 6.7, Appendix C, and Appendix D of ANSI/WCMA-2018. 87 FR at 904-08. The Commission deems the presence of an accessible inner cord on stock and custom window coverings that creates a loop large enough for a child to insert his or her head when tested per sections 4.5, 6.3, 6.7, and Appendices C and D of ANSI/WCM-2018 to be an SPH, because a child can strangle on a noncompliant inner cord loop.

3. Manufacturer Label on Stock and Custom Window Coverings

Section 5.3 of ANSI/WCMA-2018 requires that stock and custom window coverings display a permanent label on the headrail (or roller tube) of a window covering, with the following information:

• the readily distinguishable name, city, and state of the manufacturer/importer/fabricator;

• the month and year of manufacture;

• the designation of the window covering as “Custom” or “Stock.”

The Commission determines, as proposed in the NPR, that the absence of a manufacturer label is readily observable with a visual observation of the window covering. 87 FR at 908. The Commission deems the absence of a manufacturer label on a window covering an SPH, because the window covering would not be in compliance with section 5.3 of ANSI/WCMA-2018. Additionally, the absence of this manufacturer label makes it difficult for staff, manufacturers, and consumers to identify the product and class of products subject to a recall, and to distinguish stock from custom window coverings. More than 28 million window covering units have been subject to a recall. Product information that aids a recall is necessary to affect and expedite recalls, especially in cases where a consumer, such as a renter, did not directly purchase the window coverings and is reliant on the manufacturer label for product information.

B. Window Coverings That Conform to ANSI/WCMA-2018 Are Effective at Reducing the Risk of Injury Associated With the Identified Readily Observable Characteristics

Based on CPSC staff's analysis, the Commission determines that stock window coverings that comply with section 4.3.1 of the 2018 version of the ANSI/WCMA standard effectively eliminate or significantly reduce the risk of strangulation from operating cords, by removing operating cords, making operating cords inaccessible to children, or by ensuring that operating cords are not long enough for a child to wrap around his or her neck. See Tabs G and I of Staff's NPR Briefing Package; Briefing Memorandum of Staff's Final Rule Briefing Package (at page 36). Staff's review of the incident data found that if stock window coverings had complied with the requirements in sections 4.3.1 of ANSI/WCMA-2018 at the time of the incident, all operating cord incidents would have been prevented. Id. Even though the requirements in the 2018 standard, when followed, should lead to safe stock window coverings, the Commission acknowledges that it will take approximately 2 decades, for existing window coverings in consumers' homes to be replaced.¹⁴

¹⁴ For window coverings manufactured before the effective date of the voluntary standard, the Window Covering Safety Council (WCSC) distributes safety devices through its website, and during October safety month, CPSC and WCSC have promoted safe window coverings, and offer guidance on what to do to reduce the strangulation hazard.

Based on staff's assessment, the Commission also determines that stock and custom window coverings that comply with the inner cord requirements in sections 4.5, 6.3, 6.7, and Appendices C and D of ANSI/WCMA-2018 effectively eliminate or reduce the strangulation risk to children from hazardous inner cords. Id. Like the operating cord requirements for stock window coverings, the inner cord requirements eliminate hazardous cords, by removing them from the product, shrouding inner cords to make them inaccessible to children, or ensuring that if a child pulls on an inner cord, the loop created is not large enough for a child to insert his or her head. Staff's review of the incident data found that if stock and custom window coverings had been in compliance with section 4.5 of ANSI/WCMA-2018, all inner cord incidents would have been prevented on a window covering that is unbroken and intact. Id.

Finally, the Commission determines that stock and custom window coverings that comply with section 5.3 of ANSI/WCMA-2018, by displaying the required manufacturer label, are effective at reducing the risk of injury, by identifying whether a product is stock or custom, and by identifying the manufacturer and the manufacture date of the products. This information allows CPSC, manufacturers, and consumers to differentiate stock products from custom products, and it also aids in expediting timely and effective recalls. See Tab D of Staff's NPR Briefing Package.

C. Window Coverings Substantially Comply With the Identified Readily Observable Characteristics of Window Coverings

The Commission has several bases to determine that stock window coverings substantially comply with the requirements for operating cords in ANSI/WCMA-2018. First, WCMA, the trade association for window coverings and the body that created the voluntary standard, stated in a comment on the ANPR (comment ID: CPSC_2013-0028-1555) that there has been substantial compliance with the voluntary standard since its first publication. WCMA also stated that the association's message to manufacturers is that, to sell window coverings in the United States, compliance with the standard is mandatory.

Additionally, the Commission instructed the staff to investigate the level of compliance of window coverings with the voluntary standard. CPSC contracted with D+R International, which interviewed window covering manufacturers and component manufacturers to collect anecdotal information on the distribution of stock and custom product sales and the impact of compliance with the voluntary standard (D+R International, 2021). Various manufacturers indicated retail customers would not stock noncompliant products. Manufacturers are also aware of their customers' procedures, and they would not ship to them, if there were concerns about the assembly and installation process. The D+R report indicates that the voluntary standard has caused U.S. window covering manufacturers to design and offer cordless lift operations for most stock window covering categories. All manufacturers interviewed were aware of the standard and had implemented compliance in all stages of their development process, from product design to fabrication.

CPSC field staff also confirmed compliance of the categorization for “stock” and “custom” window coverings, as defined in the ANSI/WCMA standard. CPSC field staff conducted unannounced in-store visits to 18 firms, comprising wholesalers, manufacturers, and retailers. Window coverings in 13 locations demonstrated compliance with the voluntary standard for operating cords for stock and custom products. However, in four locations, staff observed noncompliance of custom window coverings with the ANSI/WCMA standard, primarily for characteristics that are not subject to this rule, including: deviations from the default options with no specific customer request that justified the deviation (e.g., length of operating cords 40 percent longer than the window covering length and use of a cord tilt, instead of a wand tilt,); lack of warning label; lack of manufacturer label; and lack of hang tag. Staff found one location with a noncomplying stock window covering. This stock window covering was being sold with long beaded-cord loops in various sizes. Tab E of Staff's NPR Briefing Package contains a more detailed description of staff's assessment of substantial compliance with the voluntary standard.

Finally, CPSC technical staff tested custom product samples, using test parameters defined in ANSI/WCMA-2018, with a cord accessibility probe and force gauge. The samples tested by staff also indicated a high level of conformance in custom products regarding inner cord accessibility.

Based on incident data, WCMA's statements, contractor report findings, and staff's examination and testing of window covering products, the Commission determines that a substantial majority of window coverings sold in the United States comply with the readily observable safety characteristics identified in ANSI/WCMA-2018, as described in Table 3.

III. Description of the Final Rule

The final rule adds several new paragraphs in part 1120. The final rule includes two new definitions in § 1120.2(f) and (g), which define “stock window covering” and “custom window covering” consistent with the definitions in section 3 of ANSI/WCMA-2018, definitions 5.02 and 5.01, respectively. The final rule defines a “stock window covering” as a product that is “completely or substantially fabricated” prior to being distributed in commerce and is a stock-keeping unit (SKU). The definition further explains that even when a seller, manufacturer, or distributor modifies a pre-assembled product by, for example, adjusting the size, attaching a top rail or bottom rail, or tying cords to secure the bottom rail, the product is still considered “stock.” Additionally, the definition clarifies that online sales of the product, or the quantity of an order, such as a large quantity for a multifamily housing unit, do not make the product a non-stock product. The final rule defines a “custom window covering” as any window covering that is not classified as a stock window covering.

Section 1120.3 of the final rule lists substantial product hazards by product, identifying the readily observable characteristics of each product, and the sections of the voluntary standards that address each hazard. The final rule modifies § 1120.3 by adding “stock window coverings” and “custom window coverings” as § 1120.3(e) and (f), respectively. Section 1120.3(e) of the final rule deems stock window coverings that fail to comply with one or more of three readily observable characteristics in ANSI/WCMA-2018 an SPH:

(1) Operating cord requirements in sections 4.3.1.1 (cordless operating system), 4.3.1.2 (short static or access cord), or 4.3.1.3 (inaccessible operating cord);

(2) Inner cord requirements in sections 4.5, 6.3, 6.7, Appendix C, and Appendix D; and

(3) On-product manufacturer label in section 5.3.

Additionally, § 1120.3(f) of the final rule deems custom window coverings that fail to comply with one or more of two readily observable characteristics in ANSI/WCMA-2018 an SPH:

(1) Inner cord requirements in section 4.5, 6.3, 6.7, Appendix C, and Appendix D; and

(2) On-product manufacturer label in section 5.3.

These characteristics and the ANSI/WCMA-2018 requirements are explained in more detail in section II, and Tables 2 and 3, of this preamble.

Finally, the final rule adds § 1120.4(d), which provides the incorporation by reference details for the ANSI/WCMA standard.

IV. Effect of the Final Rule Under Section 15(j) of the CPSA

Section 15(j) of the CPSA allows the Commission to issue a rule specifying that a consumer product or class of consumer products has characteristics whose presence or absence creates a substantial product hazard. A rule under section 15(j) of the CPSA is not a consumer product safety rule, and thus, would not trigger the statutory requirements of a consumer product safety rule. For example, a rule under section 15(j) of the CPSA does not trigger the testing or certification requirements under section 14(a) of the CPSA.

Although a rule issued under section 15(j) of the CPSA is not a consumer product safety rule, a product that is or has an SPH listed in 16 CFR part 1120 is subject to the reporting requirements of section 15(b) of the CPSA, 15 U.S.C. 2064(b). A manufacturer, importer, distributor, or retailer that fails to report an SPH to the Commission is subject to civil penalties under section 20 of the CPSA, 15 U.S.C. 2069, and is possibly subject to criminal penalties under section 21 of the CPSA, 15 U.S.C. 2070.

A product that is or contains an SPH may also be subject to voluntary corrective action or mandatory corrective action under sections 15(c) and (d) of the CPSA, 15 U.S.C. 2064(c) and (d). Thus, by issuing a final rule under section 15(j) for stock and custom window coverings, the Commission can order the manufacturer, importer, distributor, or retailer of window coverings that do not conform to one or more of the identified readily observable characteristics to offer to repair or replace the product or to refund the purchase price to the consumer.

A product that is offered for import into the United States and is or contains an SPH shall be refused admission into the United States under section 17(a) of the CPSA, 15 U.S.C. 2066(a). Additionally, Customs and Border Protection (CBP) has the authority to seize certain products offered for import under the Tariff Act of 1930 (19 U.S.C. 1595a)(Tariff Act), and to assess civil penalties that CBP, by law, is authorized to impose. Section 1595a(c)(2)(A) of the Tariff Act states that CBP may seize merchandise, and such merchandise may be forfeited if: “its importation or entry is subject to any restriction or prohibition which is imposed by law relating to health, safety, or conservation and the merchandise is not in compliance with the applicable rule, regulation, or statute.” Thus, pursuant to the final rule, stock and custom window coverings that violate the rule are subject to CBP seizure and forfeiture.

V. Regulatory Flexibility Act Analysis

The Regulatory Flexibility Act (RFA) requires that proposed and final rules be reviewed for the potential economic impact on small entities, including small businesses. 5 U.S.C. 601-612. In the NPR, the Commission stated that the economic effect of the rule on all entities will be minimal, and that absent public comment with relevant information and evidence to the contrary, the Commission intended to certify at the final rule stage that the rule will not have a significant economic impact on a substantial number of small entities. 87 FR at 910-11. The Commission received no comments on the RFA analysis presented in the NPR, and we have not found any data that would alter that analysis. See Tab E of Staff's Final Rule Briefing Package. Accordingly, for the final rule, the Commission certifies that the rule will not have a significant impact on a substantial number of small businesses.

VI. Environmental Considerations

Generally, the Commission's regulations are considered to have little or no potential for affecting the human environment, and environmental assessments and impact statements are not usually required. See 16 CFR 1021.5(a). The final rule to deem stock and custom window covering cords that do not comply with the identified readily observable characteristics to be an SPH is not expected to have an adverse impact on the environment, and falls within the “categorical exclusion” for the purposes of the National Environmental Policy Act. 16 CFR 1021.5(c).

VII. Paperwork Reduction Act

Under the Office of Management and Budget's (OMB) regulations (5 CFR 1320.3(b)(2)), the time, effort, and financial resources necessary to comply with a collection of information that would be incurred by persons in the “normal course of their activities” are excluded from a burden estimate, where an agency demonstrates that the disclosure activities required to comply are “usual and customary.” In the NPR, CPSC explained staff's assessment that more than 90 percent of the window covering market already complies with the voluntary standard, including the requirement in section 5.3 of ANSI/WCMA-2018 to place a manufacturer label on each window covering. CPSC received no comments on the burden estimate. For the final rule, CPSC will not establish an information collection under the Paperwork Reduction Act of 1995 (44 U.S.C. 3501-3521), because the cost and burden of the label required in section 5.3 of ANSI/WCMA-2018 is incurred by window covering manufacturers in the “normal course of their activities” and are thus excluded from the burden estimate because compliance is “usual and customary.”

VIII. Preemption

The final rule under section 15(j) of the CPSA does not establish a consumer product safety rule. Accordingly, the preemption provisions in section 26(a) of the CPSA, 15 U.S.C. 2075(a), do not apply to this rule.

IX. Effective Date

The Administrative Procedure Act (APA) generally requires that the effective date of a rule be at least 30 days after publication of a final rule. 5 U.S.C. 553(d). In the NPR, the Commission proposed that any stock or custom window coverings that did not conform to the specified sections of ANSI/WCMA A100.1—2018 (summarized in Table 3), be deemed an SPH effective 30 days after publication of a final rule in the Federal Register. We received no comments on the effective date. Accordingly, the final rule will apply to all stock and custom window coverings that do not comply with the readily observable characteristics of ANSI/WCMA-2018, as specified in Table 3 of this preamble, that are distributed in commerce or imported on or after December 28, 2022.

X. Incorporation by Reference

The Commission incorporates by reference certain provisions of ANSI/WCMA A100.1—2018, American National Standard for Safety of Corded Window Covering Products. The Office of the Federal Register (OFR) has regulations concerning incorporation by reference. 1 CFR part 51. The OFR's regulations require that, for a final rule, agencies must discuss, in the preamble of the rule, ways that the materials the agency incorporates by reference are reasonably available to interested persons and how interested parties can obtain the materials. In addition, the preamble of the rule must summarize the material. 1 CFR 51.5(b).

In accordance with the OFR's requirements, sections I.F, II.A, and Table 3 of this preamble summarize the provisions of ANSI/WCMA A100.1—2018 that the Commission is incorporating by reference. ANSI/WCMA A100.1—2018 is copyrighted. You can view a read-only copy of ANSI/WCMA A100.1—2018 at: https://wcmanet.com/wp-content/uploads/2021/07/WCMA-A100-2018_v2_websitePDF.pdf. To download or print the standard, interested persons can purchase a copy of ANSI/WCMA A100.1—2018 from WCMA, through its website (http://wcmanet.com), or by mail from the Window Covering Manufacturers Association, Inc., 355 Lexington Avenue, New York, NY 10017; telephone: 212.297.2122. Alternatively, interested parties may inspect a copy of the standard free of charge by contacting Alberta E. Mills, Office of the Secretary, U.S. Consumer Product Safety Commission, 4330 East West Highway, Bethesda, MD 20814; telephone: 301-504-7479; email: cpsc-os@cpsc.gov.

XI. Congressional Review Act

The Congressional Review Act (CRA; 5 U.S.C. 801-808) states that, before a rule may take effect, the agency issuing the rule must submit the rule, and certain related information, to each House of Congress and the Comptroller General. 5 U.S.C. 801(a)(1). The submission must indicate whether the rule is a “major rule.” The CRA states that the Office of Information and Regulatory Affairs (“OIRA”) determines whether a rule qualifies as a “major rule.” Pursuant to the CRA, OIRA designated this rule as not a “major rule,” as defined in 5 U.S.C. 804(2). To comply with the CRA, CPSC will submit the required information to each House of Congress and the Comptroller General.

List of Subjects in 16 CFR Part 1120

Administrative practice and procedure, Clothing, Consumer protection, Cord sets, Extension cords, Household appliances, Lighting, Window Coverings, Cords, Infants and children, Imports, Incorporation by reference.

For the reasons stated above, and under the authority of 15 U.S.C. 2064(j), 5 U.S.C. 553, and section 3 of Public Law 110-314, 122 Stat. 3016 (August 14, 2008), the Consumer Product Safety Commission amends 16 CFR part 1120 as follows:

PART 1120—SUBSTANTIAL PRODUCT HAZARD LIST

1. The authority citation for part 1120 continues to read as follows:

Authority: 15 U.S.C. 2064(j).

2. In § 1120.2, add paragraphs (f) and (g) to read as follows:

§ 1120.2 Definitions.

* * * * *

(f) Stock window covering (also known as a stock blind, shade, or shading) has the same meaning as defined in section 3, definition 5.02, of ANSI/WCMA A100.1—2018 (incorporated by reference; see § 1120.4), as a window covering that is completely or substantially fabricated prior to being distributed in commerce and is a specific stock-keeping unit (SKU). Even when the seller, manufacturer, or distributor modifies a pre-assembled product by adjusting to size, attaching the top rail or bottom rail, or tying cords to secure the bottom rail, the product is still considered stock. Online sales of the product or the size of the order such as multi-family housing do not make the product a non-stock product. These examples are provided in ANSI/WCMA A100.1—2018 (incorporated by reference; see § 1120.4) to clarify that as long as the product is “substantially fabricated” prior to distribution in commerce, subsequent changes to the product do not change its categorization.

(g) Custom window covering (also known as a custom blind, shade, or shading) has the same meaning as defined in section 3, definition 5.01, of ANSI/WCMA A100.1—2018 (incorporated by reference; see § 1120.4), as a window covering that does not meet the definition of a stock window covering.

3. In § 1120.3, add paragraphs (e) and (f) to read as follows:

§ 1120.3 Products deemed to be substantial product hazards.

* * * * *

(e) Stock window coverings that fail to comply with one or more of the following requirements of ANSI/WCMA A100.1—2018 (incorporated by reference; see § 1120.4):

(1) Operating cord requirements in section 4.3.1: section 4.3.1.1 (cordless operating system), 4.3.1.2 (short static or access cord), or 4.3.1.3 (inaccessible operating cord);

(2) Inner cord requirements in sections 4.5, 6.3, 6.7, and Appendices C and D; and

(3) On-product manufacturer label requirement in section 5.3.

(f) Custom window coverings that fail to comply with one or more of the following requirements of ANSI/WCMA A100.1—2018 (incorporated by reference; see § 1120.4):

(1) Inner cord requirements in sections 4.5, 6.3, 6.7, and Appendices C and D; and

(2) On-product manufacturer label in section 5.3.

4. In § 1120.4, add paragraph (d) to read as follows:

§ 1120.4 Standards incorporated by reference.

* * * * *

(d) Window Covering Manufacturers Association, Inc., 355 Lexington Avenue, New York, New York 10017. Telephone: 212.297.2122. http://wcmanet.com.

(1) ANSI/WCMA A100.1—2018. American National Standard For Safety Of Corded Window Covering Products, approved January 8, 2018. IBR approved for §§ 1120.2 and 1120.3.

(2) [Reserved]

Alberta E. Mills,
Secretary, Consumer Product Safety Commission.

[FR Doc. 2022-25040 Filed 11-25-22; 8:45 am]

BILLING CODE 6355-01-P